DEPARTMENT OF THE INTERIOR

Bureau of Land Management

[CACA 048811, LLCAD01500, L51010000.LVRWB13B5340.ER0000]

Notice of Availability of the Draft Environmental Impact Statement for the Proposed Right-of-Way Amendment for the Blythe Solar Power Project, California

AGENCY: Bureau of Land Management, Interior.

ACTION: Notice of availability.

SUMMARY: In accordance with the National Environmental Policy Act of 1969, as amended, and the Federal Land Policy and Management Act of 1976, as amended, the Bureau of Land Management (BLM) Palm Springs—South Coast Field Office, Palm Springs, California, has prepared a Draft Environmental Impact Statement (EIS) for the proposed right-of-way (ROW) grant amendment for the Blythe Solar Power Project (BSPP), Riverside County, California, and by this notice is announcing a 45-day public comment period on the EIS.

DATES: To ensure that comments will be considered, the BLM must receive written comments on the Draft EIS within 45 days following the date the Environmental Protection Agency publishes its Notice of Availability in the Federal Register. The BLM will announce future meetings or hearings and any other public involvement activities at least 15 days in advance through public notices, media releases, and/or mailings.

ADDRESSES: You may submit comments related to the proposed ROW amendment for the BSPP by any of the following methods:

• Web site: http://www.blm.gov/ca/st/en/fo/palmsprings/solar_projects/Blythe_Solar_Power_Project.html

• Email: capssolarblythe@blm.gov.

• Fax: 760-833-7199, Attn: Frank McMenimen.

• Mail: Frank McMenimen, Project Manager, BLM Palm Springs—South Coast Field Office, 1201 Bird Center Drive, Palm Springs, CA 92262.

Copies of the Draft EIS are available from the Palm Springs—South Coast Field Office at the above address and online at the project Web site.

FOR FURTHER INFORMATION CONTACT: Frank McMenimen, BLM Project Manager, telephone 760-833-7150; address 1201 Bird Center Drive, Palm Springs, CA 92262; email capssolarblythe@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The project area is located 8 miles west of Blythe and 3 miles north of Interstate 10 (I-10). The BSPP was permitted and approved by the BLM as a 1,000-megawatt (MW) solar thermal generating plant in 2010. NextEra Blythe Solar Energy Center, LLC (Grant Holder) purchased via bankruptcy the (un-built) project assets of the prior BSPP grant holder in 2012. In connection with that purchase, on August 22, 2012, the BLM approved the assignment of the BSPP ROW grant from the prior holder, Palo Verde Solar I, LLC, to the Grant Holder. The Grant Holder now proposes to modify the Project's energy generation technology and to reduce the overall size of the Project within the previously approved BSPP footprint.

Specifically, the Grant Holder is proposing to construct, operate, maintain, and decommission the BSPP using photovoltaic (PV) technology with a 485 MW capacity on 4,138 acres of BLM-administered public land. Anticipating that a PV project would require a smaller footprint than the approved solar thermal trough project, the Grant Holder relinquished to the BLM approximately 35 percent of the previously approved ROW grant on March 7, 2013. In connection with its proposed modifications to the BSPP, the Grant Holder has submitted a Level 3 variance request seeking an amendment to the existing ROW authorization to reduce the acreage of the project site and change the generating technology authorized under the ROW grant from concentrating solar trough to PV, which reduces the project's capacity from 1,000 to 485 MWs (the Modified Project).

The Draft EIS fully analyzes the Grant Holder's proposal to construct, operate, maintain, and decommission a Modified Project (Alternative 1), as well as the BLM's denial of the variance request which would maintain the current ROW grant approvals on the site as modified by the Grant Holder's voluntary relinquishment (Alternative 2, No Action). Further, as part of the Draft EIS, Alternatives 1 and 2 are compared to the Approved Project and the No Project alternatives analyzed as part of the 2010 Proposed Plan Amendment/Final EIS for the previously approved BSPP. The Draft EIS does not supersede or replace the BLM's Proposed Plan Amendment/Final EIS or other consideration of the Approved Project, but rather tiers to that analysis to extent applicable for analysis of the Modified Project and alternative.

The Draft EIS analyzes the use of PV technology in detail, including any additional site-specific impacts resulting from the change in technology and additional or relocated ancillary facilities. This includes impacts to air quality, biological resources, climate change, cultural resources, hazards and public health, lands and realty, mineral resources, noise, paleontological resources, recreation and special designations, socioeconomics and environmental justice, soil resources, traffic and travel management, visual resources, water resources, and wildland fire ecology.

The BLM conducted Native American tribal consultations in accordance with Section 106 of the National Historic Preservation Act and Federal policy in connection with the previously approved BSPP, which resulted in the development of a Programmatic Agreement. During that process tribes expressed their views and concerns about the importance and sensitivity of specific cultural resources to which they attach religious and cultural significance. In connection with its review of the Modified Project and throughout the implementation of the PA, the BLM will continue to give tribal concerns due consideration, including impacts to historic properties to which tribes attach religious and cultural significance and Indian trust assets. The BLM will also carry out its responsibilities to consult with tribes on a government-to-government basis and other members of the public pursuant to Section 106, Executive Order 13175, other laws and policies, and the existing PA to the extent applicable to the consideration of the Grant Holder's proposed amendment to the BSPP ROW grant.

Federal, State, and local agencies, along with other stakeholders that may be interested or affected by the BLM's decision on this project are invited to participate in the comment process and, if eligible, may request or be requested by the BLM to participate as a cooperating agency. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6 & 1506.10.

Thomas Pogacnik,
Deputy State Director.

[FR Doc. 2014-02545 Filed 2-6-14; 8:45 am]

BILLING CODE 4310-40-P